DEPARTMENT OF COMMERCE

International Trade Administration

[C-570-966]

Drill Pipe From the People's Republic of China: Countervailing Duty Order

AGENCY: Import Administration, International Trade Administration, Department of Commerce.

SUMMARY: Based on affirmative final determinations by the Department of Commerce (the Department) and the International Trade Commission (ITC), the Department is issuing a countervailing duty order on drill pipe from the People's Republic of China (PRC).

DATES: Effective Date: March 3, 2011.

Contact Information: Kristen Johnson, AD/CVD Operations, Office 3, Import Administration, International Trade Administration, U.S. Department of Commerce, 14th Street and Constitution Avenue, NW., Washington, DC 20230; telephone: (202) 482-4793.

SUPPLEMENTARY INFORMATION:

Background

On January 11, 2011, the Department published its final determination that countervailable subsidies are being provided to producers and exporters of drill pipe from the PRC. See Drill Pipe from the People's Republic of China: Final Affirmative Countervailing Duty Determination, Final Affirmative Critical Circumstances Determination, 76 FR 1971 (January 11, 2011).

On February 24, 2011, the ITC notified the Department of its final determination pursuant to sections 705(b)(1)(A)(ii) and 705(d) of the Tariff Act of 1930, as amended (the Act), that an industry in the United States is threatened with material injury by reason of subsidized imports of subject merchandise from the PRC. The ITC also determined that critical circumstances do not exist. See Drill Pipe and Drill Collars from China, Investigation Nos. 701-TA-474 and 731-TA-1176 (Final), USITC Publication 4213 (February 2011). Pursuant to section 706(a) of the Act, the Department is publishing a countervailing duty order on the subject merchandise.

Scope of the Order

The products covered by this order are steel drill pipe and steel drill collars, whether or not conforming to American Petroleum Institute (API) or non-API specifications. Included are finished drill pipe and drill collars without regard to the specific chemistry of the steel (i.e., carbon, stainless steel, or other alloy steel), and without regard to length or outer diameter. Also included are unfinished drill collars (including all drill collar green tubes) and unfinished drill pipe (including drill pipe green tubes, which are tubes meeting the following description: seamless tubes with an outer diameter of less than or equal to 6 5/8 inches (168.28 millimeters), containing between 0.16 and 0.75 percent molybdenum, and containing between 0.75 and 1.45 percent chromium). The scope does not include tool joints not attached to the drill pipe, nor does it include unfinished tubes for casing or tubing covered by any other antidumping or countervailing duty order.

The subject products are currently classified in the following Harmonized Tariff Schedule of the United States (HTSUS) categories: 7304.22.0030, 7304.22.0045, 7304.22.0060, 7304.23.3000, 7304.23.6030, 7304.23.6045, 7304.23.6060, 8431.43.8040 and may also enter under 8431.43.8060, 8431.43.4000, 7304.39.0028, 7304.39.0032, 7304.39.0036, 7304.39.0040, 7304.39.0044, 7304.39.0048, 7304.39.0052, 7304.39.0056, 7304.49.0015, 7304.49.0060, 7304.59.8020, 7304.59.8025, 7304.59.8030, 7304.59.8035, 7304.59.8040, 7304.59.8045, 7304.59.8050, and 7304.59.8055.

The HTSUS subheadings are provided for convenience and customs purposes only. The written description of the scope of this order is dispositive.

Countervailing Duty Order

According to section 706(b)(2) of the Act, duties shall be assessed on subject merchandise entered, or withdrawn from warehouse, for consumption on or after the date of publication of the ITC's notice of final determination if that determination is based upon the threat of material injury. Section 706(b)(1) of the Act states, “{i}f the Commission, in its final determination under section 705(b), finds material injury or threat of material injury which, but for the suspension of liquidation under section 703(d)(2), would have led to a finding of material injury, then entries of the merchandise subject to the countervailing duty order, the liquidation of which has been suspended under section 703(d)(2), shall be subject to the imposition of countervailing duties under section 701(a).” In addition, section 706(b)(2) of the Act requires U.S. Customs and Border Protection (CBP) to refund any cash deposits or bonds of estimated countervailing duties posted before the date of publication of the ITC's final affirmative determination, if the ITC's final determination is based on threat other than the threat described in section 706(b)(1) of the Act. Because the ITC's final determination in this case is based on the threat of material injury and is not accompanied by a finding that injury would have resulted but for the imposition of suspension of liquidation of entries since the Department's Preliminary Determination ¹ was published in the Federal Register, section 706(b)(2) of the Act is applicable.

¹ See Drill Pipe From the People's Republic of China: Preliminary Affirmative Countervailing Duty Determination, 75 FR 33245 (June 11, 2010) (Preliminary Determination).

As a result of the ITC's determination and in accordance with section 706(a)(1) of the Act, the Department will direct CBP to assess, upon further instruction by the Department, countervailing duties equal to the amount of the net countervailable subsidy for all relevant entries of drill pipe from the PRC. In accordance with section 706 of the Act, the Department will direct CBP to reinstitute suspension of liquidation,² effective on the date of publication of the ITC's notice of final determination in the Federal Register, and to require a cash deposit for each entry of subject merchandise in an amount equal to the net countervailable subsidy rates listed below. See section 706(a)(3) of the Act. The all others rate applies to all producers and exporters of subject merchandise not specifically listed.

² The Department instructed CBP to discontinue the suspension of liquidation on October 9, 2010, in accordance with section 703(d) of the Act. Section 703(d) states that the suspension of liquidation pursuant to a preliminary determination may not remain in effect for more than four months. Entries of drill pipe from the PRC made on or after October 9, 2010, and prior to the date of publication of the ITC's final determination in the Federal Register are not liable for the assessment of countervailing duties because of the Department's discontinuation, effective October 9, 2010, of the suspension of liquidation.

Producer/Exporter | Net subsidy ad valorem rate (percent)
DP Master Manufacturing Co., Ltd. (DP Master), Jiangyin Sanliang Petroleum Machinery Co., Ltd. (SPM); Jiangyin Liangda Drill Pipe Co., Ltd. (Liangda); Jiangyin Sanliang Steel Pipe Trading Co., Ltd. (SSP), and Jiangyin Chuangxin Oil Pipe Fittings Co., Ltd. (Chuangxin) (collectively, DP Master Group) | 18.18
All Others | 18.18

Termination of the Suspension of Liquidation

As a result of our affirmative critical circumstances finding on the DP Master Group and all other companies, CBP suspended liquidation and collected cash deposits or bonds on all entries by these companies made 90 days prior to our affirmative Preliminary Determination.

The Department will instruct CBP to terminate the suspension of liquidation for entries of drill pipe from the PRC, entered or withdrawn from warehouse, for consumption prior to the publication of the ITC's notice of final determination. The Department will also instruct CBP to refund any cash deposits made and release any bonds with respect to entries of drill pipe entered, or withdrawn from warehouse, for consumption on or after March 13, 2010 (i.e., 90 days prior to the date of publication of the Preliminary Determination), but before the date of publication of the ITC's final determination in the Federal Register.

This notice constitutes the countervailing duty order with respect to drill pipe from the PRC, pursuant to section 706(a) of the Act. Interested parties may contact the Department's Central Records Unit, Room 7046 of the main Commerce Building, for copies of an updated list of countervailing duty orders currently in effect.

This order is issued and published in accordance with section 706(a) of the Act and 19 CFR 351.211(b).

Dated: February 25, 2011.
Paul Piquado,
Acting Deputy Assistant Secretary for Import Administration.

[FR Doc. 2011-4796 Filed 3-2-11; 8:45 am]

BILLING CODE 3510-DS-P